DEPARTMENT OF HOMELAND SECURITY

Coast Guard

33 CFR Part 117

[Docket No. USCG-2015-0112]

Drawbridge Operation Regulation; Cape Fear River, Wilmington, NC

AGENCY: Coast Guard, DHS.

ACTION: Notice of deviation from drawbridge regulation.

SUMMARY: The Coast Guard has issued a temporary deviation from the operating schedule that governs the North Carolina Department of Transportation (NCDOT) Cape Fear Memorial Bridge across the Cape Fear River, mile 26.8, in Wilmington, NC. This temporary deviation allows the bridge to remain in the closed to navigation position for up to five days to facilitate biennial maintenance and inspections.

DATES: This deviation is effective from 7 a.m. on March 16, 2015 to 5 p.m. March 20, 2015.

ADDRESSES: The docket for this deviation [USCG-2015-0112] is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Terrance Knowles, Environmental Protection Specialist, Coast Guard; telephone 757-398-6587, email Terrance.A.Knowles@uscg.mil. If you have questions on viewing the docket, call Cheryl Collins, Program Manager, Docket Operations, at 202-366-9826.

SUPPLEMENTARY INFORMATION: North Carolina Department of Transportation (NCDOT), who owns and operates this vertical lift-type drawbridge, has requested a temporary deviation from the current operating regulation to facilitate biennial maintenance and inspections.

Under the regular operating schedule, the bridge opens on signal, except for two other time periods in July and November as described in 33 CFR 117.822. The Cape Fear Memorial Bridge has 65 feet of vertical clearance in the closed position at mean high water.

Under this temporary deviation the repairs would restrict the operation of the draw. It would allow the bridge to remain closed from 7 a.m. March 16, 2015, to 5 p.m. March 20, 2015 to facilitate biennial maintenance and inspections.

The Coast Guard will also inform the users of the waterways through our Local and Broadcast Notices to Mariners of the change in operating schedule for the bridge so that vessels can arrange their transits to minimize any impact caused by the temporary deviation. Vessels able to pass under the bridge in the closed position may do so at any time. The bridge will not be able to open for emergencies and there is no immediate alternate route for vessels unable to pass through the bridge in closed positions. Mariners are advised to proceed with caution.

In accordance with 33 CFR 117.35(e), the drawbridge must return to its regular operating schedule immediately at the end of the designated time period. This deviation from the operating regulations is authorized under 33 CFR 117.35.

Dated: February 20, 2015.
James L. Rousseau,
Bridge Program Manager, Fifth Coast Guard District.

[FR Doc. 2015-04301 Filed 2-27-15; 8:45 am]

BILLING CODE 9110-04-P